DEPARTMENT OF JUSTICE

Notice of Lodging of Consent Decree Under the Comprehensive Environmental Response, Compensation, and Liability Act

Notice is hereby given that on November 3, 2000, a proposed Consent Decree in United States v. The Detroit Edison Company, et al., Civil Action No. 00-74844, was lodged with the United States District Court for the Eastern District of Michigan. This Consent Decree represents a settlement of claims brought against the Detroit Edison Company, Ford Motor Company, and General Motors Corporation (“Settling Defendants”) in the above-referenced action under Section 107 of the Comprehensive Environmental Response, Compensation, and Recovery Act (“CERCLA”), 42 U.S.C. 9607, to recover costs incurred by the United States in connection with the J.E. Berger Superfund Site in Detroit, Michigan.

The Department of Justice will receive a period of thirty (30) days from the date of this publication comments relating to the Consent Decree. Comments should be addressed to the Assistant Attorney General, Environmental and Natural Resources Division, P.O. Box 7611, U.S. Department of Justice, Washington, D.C. 20044-7611, and should refer to United States v. The Detroit Edison Company, et al. (E.D. Mich.), D.J. Ref. 90-11-3-06946.

The Consent Decree may be examined at the Office of the United States Attorney, 211 West Fort Street, Suite 2001, Detroit, Michigan 48226-3211, and at U.S. EPA Region 5, 77 West Jackson Boulevard, Chicago, Illinois 60604. A copy of the Consent Decree may also be obtained by mail from the Consent Decree Library, P.O. Box 7611, U.S. Department of Justice, Washington, D.C. 20044-7611. In requesting a copy, please enclose a check in the amount of $5.50 (25 cents per page reproduction cost), payable to the Consent Decree Library.

Bruce S. Gelber,
Chief Environmental Enforcement Section, Environment and Natural Resources Division.

[FR Doc. 00-29541 Filed 11-17-00; 8:45 am]

BILLING CODE 4410-15-M